ENVIRONMENTAL PROTECTION AGENCY

40 CFR Part 300

[FRL-7629-3]

National Oil and Hazardous Substances Pollution Contingency Plan; National Priorities List

AGENCY: Environmental Protection Agency.

ACTION: Notice of intent for partial deletion of the West Virginia Ordnance Works Site from the National Priorities List.

SUMMARY: The Environmental Protection Agency (EPA) Region III announces its intent to delete five areas of the West Virginia Ordnance Works (WVOW) National Priorities List (NPL) site from the NPL and requests public comment on this action. The areas are the Operable Unit 10 (OU-10) South Acids Area, Cooling Tower Area, and Toluene Storage Areas; the Expanded Site Investigation 1 (ESI-1) Magazine Area; the ESI-4 Red Water Outfall Sewer; the ESI-6 Motorpool/Maintenance Area; and the ESI-7 Former Sewage Treatment Plant. The NPL constitutes Appendix B to the National Oil and Hazardous Substances Pollution Contingency Plan (NCP), 40 CFR part 300, which EPA promulgated pursuant to section 105 of the Comprehensive Environmental Response, Compensation and Liability Act (CERCLA).

This proposal for partial deletion pertains only to OU-10, ESI-1, ESI-4, ESI-6, and ESI-7. The U.S. Army Corps of Engineers (USACE), together with EPA, issued a no further action Record of Decision (ROD) for OU-10. USACE and EPA issued no further action Decision Documents for ESIs-1, -4, -6, and -7, which were concurred upon by the West Virginia Department of Environmental Protection (WVDEP). EPA bases its proposal to delete these five areas at WVOW on the determination by EPA, USACE, and WVDEP that all appropriate actions under CERCLA have been implemented to protect human health and the environment at OU-10 and ESIs-1, -4, -6, and -7.

This partial deletion pertains only to these areas of the WVOW site and does not include any other ESI or any OU. All other ESIs and OUs not previously deleted will remain on the NPL, and investigation and response activities will continue at those ESIs and OUs.

DATES: EPA will accept comments on this proposal until April 2, 2004.

ADDRESSES: Comments may be submitted to the following: Mr. Jack Potosnak, PE, Remedial Project Manager, U.S. EPA, Region III (3HS13), 1650 Arch Street, Philadelphia, Pennsylvania 19103-2029, Telephone: (215) 814-3362.

INFORMATION REPOSITORIES: Comprehensive information on the WVOW site, information specific to this proposed partial deletion, the Administrative Record and the Deletion Docket for this partial deletion are available for review at the following WVOW site document/information repositories:

Mason County Public Library, 508 Viand Street, Point Pleasant, WV 25550, (304) 675-0894, Hours of Operation: Monday through Thursday, 10 a.m.-8 p.m. and Friday through Saturday, 10 a.m.-5 p.m.

U.S. EPA Region III Library, 1650 Arch Street, Philadelphia, PA 19103-2029, (215) 814-5254, Hours of Operation: Monday through Friday, 8 a.m.-5 p.m.

U.S. Army Corps of Engineers, Huntington District, 502 8th Street, Huntington, WV 25701, (800) 822-8413 or (304) 399-5388, Hours of Operation: Monday through Friday, 8 a.m.-4:30 p.m.

FOR FURTHER INFORMATION CONTACT: Mr. Jack Potosnak, PE, Remedial Project Manager, U.S. EPA Region III (3HS13), 1650 Arch Street, Philadelphia, PA 19103-2029, (215) 814-3362.

SUPPLEMENTARY INFORMATION:

Table of Contents

I. Introduction

II. NPL Deletion Criteria

III. Deletion Procedures

IV. Basis for Intended Partial Site Deletion

I. Introduction

The United States Environmental Protection Agency (EPA) Region III announces its intent to delete a portion of the West Virginia Ordnance Works (WVOW) site located in Mason County, West Virginia, from the National Priorities List (NPL), which constitutes Appendix B of the National Oil and Hazardous Substances Pollution Contingency Plan (NCP), 40 CFR part 300, and requests comments on this proposal. This proposal for partial deletion pertains to OU-10, ESI-1, ESI-4, ESI-6, and ESI-7.

The WVOW site is located on the east bank of the Ohio River, approximately six miles north of Point Pleasant, Mason County, West Virginia. Contamination of the WVOW site originated from the operation of a trinitrotoluene (TNT) manufacturing facility during World War II. Nitroaromatic (explosive) compounds are the primary contaminants of concern at the WVOW site.

The WVOW site, as added to the NPL in 1983, encompassed an entire area of approximately 8,323 acres. In 1994, after 11 years of investigation and other activities at the WVOW site that helped to determine where contamination at the site existed, EPA, USACE, and WVDEP worked together to clarify the boundary of the WVOW site by developing a site boundary map delineating areas of known or suspected contamination. The WVOW site boundary as delineated in the 1994 mapping encompassed approximately 2700 acres. This clarification of the site boundary was undertaken in accordance with EPA's interpretation of “facility,” which was defined by Congress in section 101(9)(B) of CERCLA, 42 U.S.C. 9601(9)(B), as “any site or area where a hazardous substance has been deposited, stored, disposed of, or placed or otherwise come to be located * * *.” EPA has routinely explained how site boundaries are determined when notifying the public regarding additions to the NPL. See, e.g., National Priorities List for Uncontrolled Hazardous Waste Sites, 67 FR 56757, 56759 (Sept. 5, 2002).

A previous partial deletion of the WVOW site from the NPL was completed on December 13, 2002 by publication of a Notice of Partial Deletion (NOPD) in the Federal Register, 67 FR 76683 (Dec. 13, 2002). No public comments were received in response to the Notice of Intent for Partial Deletion, which was published in the Federal Register approximately seven weeks before the NOPD, 67 FR 64846 (Oct. 22, 2002). The partial deletion, which removed approximately 512 acres from the WVOW site, was comprised of the OU-11 Sellite Plant, the OU-12 North and South Powerhouses and Vicinity, the ENV-6 Wetlands Mitigation Area, the ESI-3 Tract 21, the ESI-5 Refueling Depot, and the ESI-9 Main and Outgoing Classification Yards.

The current WVOW site boundary, after the 2002 partial deletion, encompasses approximately 2,188 acres. All areas proposed for deletion from the NPL are located within the current boundary for the WVOW site. The Clifton F. McClintic Wildlife Management Area (MWMA) occupies 2,788 acres of the 1983 site, and most of the MWMA is also within the current NPL boundary.

OU-10: South Acids Area, Cooling Tower Area, and Toluene Storage Areas

A focused remedial investigation was conducted for OU-10 in 1995; however, surface soil samples were not collected until November 2000. Monitoring wells were installed in 2002 to periodically test and analyze groundwater. Based on these investigations, it was determined that hazardous substances within OU-10 do not pose an imminent and substantial danger to public health and welfare or to the environment. USACE and EPA issued a ROD in September 2003, which was concurred upon by the WVDEP, documenting the conclusion that no remedial action was required at OU-10 because no contaminants present in the soil, sediment, surface water or groundwater at OU-10 pose a threat to human health or the environment.

ESI-1: Magazine Area

The southwest portion of ESI-1 overlaps with OU-7, the Point Pleasant Landfill. Several investigations have been conducted within ESI-1. Based on these investigations, no further risk characterization was recommended for those portions of ESI-1 that do not overlap with OU-7. Therefore, on January 22, 2003, USACE, EPA and WVDEP executed a Decision Document stating that no further action is necessary to protect human health and the environment and that ESI-1 should be removed from the NPL, with the exception of the portion of ESI-1 that overlaps with OU-7. OU-7 is being addressed by EPA and is not part of this proposed partial deletion.

ESI-4: Red Water Outfall Sewer

Field investigations, consisting of soil and groundwater sampling and analysis, geophysical surveys, and confirmatory excavations, were performed in 1994, 1997, and 2003 at the Red Water Outfall Sewer, designated as ESI-4. The data from these field investigations were undertaken to discover if nitroaromatic compounds, which could have been produced by operations at the former WVOW, were present in soil and groundwater. Evaluation of contaminant levels and site conditions indicated that ESI-4 poses no significant threat to human health. On June 25 and 29, 2003, USACE, EPA, and WVDEP executed a Decision Document stating that no further action is necessary to protect human health and the environment and that ESI-4 should be removed from the NPL.

ESI-6: Motorpool/Maintenance Area

Prior to 1994, no known environmental studies of soil or groundwater had been conducted at the Motorpool/Maintenance Area. The objective of ESI-6 was to determine whether contamination directly associated with former WVOW site activities existed within the Motorpool/Maintenance Area and, if present, the nature of this contamination. The initial ESI-6 investigation conducted in 1994 included a geophysical survey and subsurface soil sample collection. In 1997, as part of a data gaps investigation, several hydropunch groundwater samples were collected and analyzed. The 1997 investigation showed magnetic anomalies and low levels of petroleum contamination in site soils in the gasoline area of ESI-6, so an investigation was completed in 1999 to further determine whether underground storage tanks (USTs) could be present. The 1999 investigation did not discover any USTs in the gasoline area, and it was presumed that an UST for storing and dispensing gasoline had most likely been removed at some time after the WVOW facility ceased operation. However, trenching activities were undertaken in the locomotive area and in 2000 an UST was removed. A supplemental investigation was conducted in 2002 to provide further information on potential contamination in ESI-6 surface and subsurface soil from lead, volatile organic compounds (VOCs), and PCBs and in ESI-6 groundwater from VOCs.

Based on these investigations, it was determined that ESI-6 poses no significant threat to human health or the environment. This finding was based on the following facts: (a) Remedial activities in 2000 removed the UST and surrounding soils in the locomotive area, which was the only likely source of contamination; (b) no significant contamination was found in site groundwater; and (c) there is no potential for significant release of hazardous substances because the UST and contaminated soils have been removed. On June 18, 2003, USACE, EPA, and WVDEP executed a Decision Document stating that no further action is necessary to protect human health and the environment and that this area should be removed from the NPL.

ESI-7: Former Sewage Treatment Plant

The objective of ESI-7 was to determine the existence and, if present, the nature of contamination directly associated with the plant's influent lines and outfall. The initial ESI-7 investigation completed in 1994 consisted of the collection and analysis of one collocated surface water and sediment sample taken 100 feet downstream of the plant's discharge conduit. The sample was analyzed for target compound list and target analyte list volatile organic compounds, semivolatile organic compounds, and metals. In addition, the sediment sample was analyzed for nitroaromatic compounds. On September 28, 2000, USACE, EPA, and WVDEP executed a Decision Document stating that no further action is necessary to protect human health and the environment; however, concerns were later raised concerning the wastewater influent lines. Additional sampling within the lines that carry wastewater to the plant was conducted in 2003. Based on the analysis of the sampling and site conditions, ESI-7 poses no significant threat to human health or the environment and requires no further action to address WVOW-related contaminants.

II. NPL Deletion Criteria

This partial deletion of the WVOW site is proposed in accordance with 40 CFR 300.425(e) and the Notice of Policy Change: Partial Deletion of Sites Listed on the National Priorities List, 60 FR 55446 (Nov. 1, 1995). The NCP establishes the criteria that EPA uses to delete sites from the NPL. In accordance with 40 CFR 300.425(e), sites may be deleted from the NPL where no further response is appropriate to protect public health or the environment. In making such a determination pursuant to 40 CFR 300.425(e), EPA will consider, in consultation with the State, whether any of the following criteria have been met:

Section 300.425(e)(1)(i). Responsible parties or other persons have implemented all appropriate response actions required; or

Section 300.425(e)(1)(ii). All appropriate responses under CERCLA have been implemented, and no further response action by responsible parties is appropriate; or

Section 300.425(e)(1)(iii). The remedial investigation has shown that the release poses no significant threat to public health or the environment and, therefore, taking of remedial measures is not appropriate.

Deletion of a portion of a site from the NPL does not preclude eligibility for subsequent CERCLA actions at the area deleted if future site conditions warrant such actions. Section 300.425(e)(3) of the NCP provides that CERCLA actions may be taken at sites that have been deleted from the NPL. A partial deletion of a site from the NPL does not affect or impede EPA's ability to conduct CERCLA response activities at areas not deleted and remaining on the NPL. In addition, deletion of a portion of a site from the NPL does not affect the liability of responsible parties or impede agency efforts to recover costs associated with response efforts.

III. Deletion Procedures

Deletion of a portion of a site from the NPL does not itself create, alter, or revoke a person's rights or obligations. The NPL is designed primarily for informational purposes and to assist agency management. The following procedures were used for the proposed deletion of OU-10 and ESIs-1, -4, -6, and -7 at the WVOW site:

1. EPA has recommended the partial deletion and USACE has prepared the relevant documents.

2. The State of West Virginia through the West Virginia Department of Environmental Protection concurs with this partial deletion.

3. Concurrent with this national Notice of Intent for Partial Deletion, a notice has been published in a newspaper of record and has been distributed to appropriate federal, state, and local officials, and other interested parties. These notices announce a thirty (30) day public comment period on the deletion package, which commences on the date of publication of this notice in the Federal Register and publication of a notice of availability of this notice in a newspaper of record.

4. EPA and USACE have made all relevant documents available at the information repositories listed previously.

This Federal Register document and a concurrent notice in a newspaper of record announce the initiation of a thirty (30) day public comment period and the availability of the Notice of Intent for Partial Deletion. The public is asked to comment on EPA's proposal to delete OU-10 and ESIs-1, -4, -6, and -7 of the WVOW site from the NPL. All critical documents needed to evaluate EPA's decision are included in the Deletion Docket and are available for review at the information repositories. Upon completion of the thirty (30) day comment period, EPA will evaluate all comments received before issuing the final decision on the partial deletion. EPA will prepare a Responsiveness Summary for comments received during the public comment period and will address concerns presented in the comments. The Responsiveness Summary will be made available to the public at the information repositories listed previously. Members of the public are encouraged to contact EPA Region III to obtain a copy of the Responsiveness Summary. If, after review of all public comments, EPA determines that the partial deletion from the NPL is appropriate, EPA will publish a final notice of partial deletion in the Federal Register. Deletion of the areas does not actually occur until the final Notice of Partial Deletion is published in the Federal Register.

IV. Basis for Intended Partial Site Deletion

The following provides EPA's rationale for deletion of OU-10, ESI-1, ESI-4, ESI-6, and ESI-7 from the NPL and EPA's finding that the criteria in 40 CFR 300.425(e) are satisfied.

Background

The WVOW site is located on the east bank of the Ohio River, approximately six miles north of Point Pleasant, Mason County, West Virginia. The WVOW site, as added to the NPL in 1983, encompassed a land mass of approximately 8,323 acres. As explained in section I, earlier in this Notice, the NPL boundary was clarified in 1994, which reduced the WVOW site area to approximately 2,700 acres. A partial deletion from the NPL was completed in December 2002, which further reduced the boundary to approximately 2,188 acres. The Clinton F. McClintic Wildlife Management Area (MWMA) occupies 2,788 acres of the original site, and is mostly included in the current site boundary.

Contamination of the WVOW site originated from the operation of a trinitrotoluene (TNT) manufacturing facility during World War II. Nitroaromatic (explosive) compounds are the primary contaminants of concern at the WVOW site. To expedite CERCLA response actions at this large site, the WVOW site is divided into 13 Operable Units (OUs) and 10 Expanded Site Investigations (ESIs):

OU-1: TNT Manufacturing Area, Burning Grounds, and Waste Water Process Lines

OU-2: Red Water Reservoir

OU-3: Yellow Water Reservoir

OU-4: Groundwater Extraction and Treatment for OUs 2 and 3

OU-5: Pond 13/Wet Well Area

ENV-6: Wetlands Mitigation

OU-7: Point Pleasant Landfill

OU-8: TNT Manufacturing Area Soils

OU-9: TNT Manufacturing Area Groundwater

OU-10: South Acids Area and Toluene Storage Areas

OU-11: Sellite Plant

OU-12: North and South Powerhouses

OU-13: Pantasote Plant

ESI-1: Magazine Area

ESI-2: Acid Dock

ESI-3: Tract 21

ESI-4: Red Water Outfall Sewer

ESI-5: Refueling Depot

ESI-6: Motorpool and Maintenance Area

ESI-7: Former Sewage Treatment Plant

ESI-8: Dump Site Adjacent to the TNT Manufacturing Area

ESI-9: Classification Yards

ESI-10: Various Areas of Concern

OU-11, OU-12, ENV-6, ESI-3, ESI-5, and ESI-9 were deleted from the NPL site by the December 2002 partial deletion.

USACE has been investigating and conducting human health risk evaluations and assessments for each OU and ESI separately. Once investigations and assessments are complete, USACE and EPA together have made CERCLA response action decisions, with the concurrence of WVDEP.

The WVOW was established in 1942 as a government-owned, contractor-operated plant for the manufacture of TNT from toluene, nitric acid, and sulfuric acid. The WVOW plant was operated by the General Defense Corporation of New York from October 1942 through August 1945. The plant had the capacity to produce 720,000 pounds of TNT each day, utilizing 12 manufacturing lines; however, it has been reported that only lines 1 through 10 were operated, and the plant never reached full capacity.

The facility was constructed on approximately 5,800 acres, of which more than 2,000 acres were used as a safety zone between the plant and other properties. The plant included the 12 TNT manufacturing lines; two acid manufacturing areas; two coal-fired power plants; a Sellite manufacturing plant; pumping stations; a sewage treatment plant; 100 concrete TNT storage magazines; and various administrative, shop, and housing facilities.

In 1945, the production of TNT ceased, and shutdown of the WVOW plant was initiated. The production of TNT had resulted in soil contamination from nitroaromatic compounds in the manufacturing areas, process facilities, and wastewater disposal facilities. Partial decontamination actions were performed, such as flashing the TNT lines and draining and capping the Red and Yellow Water Reservoirs, and the property was transferred from the U.S. War Department to the U.S. War Assets Administration in late 1946.

Numerous site visits and investigations beginning in 1947 and continuing through the 1950s determined that additional contamination not previously identified was present at the site. In addition, several tracts of land that had received decontamination certificates were determined to be contaminated. Because the site could not be completely decontaminated, a portion of the site was not released for private ownership and was transferred to the State of West Virginia as a wildlife management area in 1949.

In 1981, a red water seepage was discovered at Pond 13, later designated as OU-5. Subsequent investigations led the State of West Virginia to nominate the WVOW site for inclusion on the NPL; ultimately the WVOW site was ranked 84th. A memorandum of understanding was signed in 1983 between EPA Headquarters and the Department of Defense to establish responsibilities for remediating the site. For the Department, the U.S. Army Toxic and Hazardous Materials Agency began the first remedial investigation and feasibility study in 1984. Initially, only two operable units were established, and Records of Decision (RODs) and Interagency Agreements (IAGs) were signed to address these areas. Later, more operable units were created until the current total of thirteen was reached.

Construction of the OU-1 remedy was completed in 1988 before the site was transferred from the U.S. Army Toxic and Hazardous Materials Agency to USACE, Baltimore District, in 1991. OU-1 remediation included capping of the burning grounds and the ten TNT manufacturing lines that had been operated in the 1940s and excavation and flaming of process waste water lines. Construction on OU-2, which included draining and capping of the Red and Yellow Water Reservoirs, was completed in 1992 before the site administration was transferred to USACE, Huntington District, where it remains. Portions of OU-2 were later divided into OU-3, OU-4, and OU-5 to simplify management. The construction of the OU-4 remedy was completed in 1997, and the two groundwater treatment plants are currently operational. Nitroaromatic-contaminated soil from OU-5 and Area of Concern 21 has been excavated and bioremediated on-site via windrow composting. OU-6 was re-designated as ENV-6, and construction of wetlands has been completed. OU-7 and OU-13, the Point Pleasant landfill and the Pantasote plant, respectively, have been designated by EPA as potentially responsible party sites, and EPA is the lead agency for addressing these areas. Buildings were demolished and debris removed at OU-11 and OU-12. Asbestos-containing material has been removed from ESI-3, which was the only hazard posed on that area. An underground storage tank (UST) was removed from ESI-6, and petroleum-contaminated soil from another area of ESI-6 was excavated and bioremediated on-site via windrow composting. Asbestos materials and other debris were removed and capped at ESI-8.

OU-10: South Acids Area, Cooling Tower Area, and Toluene Storage Areas

The South Acids Area (SAA) is located in the central region of the former WVOW, southwest of County Road 12 (Wadsworth Road) and is outside of the MWMA. SAA is currently owned by the State of West Virginia and is part of the West Virginia State Farm Museum property. During the WVOW's period of operation, SAA was used primarily for the production of nitric and sulfuric acids, used in the TNT production process. Most of the buildings in SAA were removed prior to 1968, but a few building foundations, a few buildings, and several concrete tank supports remain. Toluene Storage Area (TSA) 1 and TSA 2 are both located south of SAA. TSA 1 is located south of SAA and west of the TNT Manufacturing Area within the boundaries of the MWMA, which is owned by the State of West Virginia and managed by the WVDNR. TSA 1 previously housed four 270,000-gallon above-ground storage tanks in which toluene was stored and from which toluene was transferred for use in TNT production. These tanks were arranged in a square, with each storage tank surrounded by an earthen berm. Tanks and other structures were removed from TSA 1, except for earthen berms and fire-suppression bunkers, which are still present. TSA 2, comprising approximately 2.3 acres, is located between the Sellite Manufacturing Area and TSA 1 and is outside of the MWMA. Part of this property is owned by the State of West Virginia and is on the West Virginia State Farm Museum property. The other part is owned by the Department of the Army, which plans to transfer the property to the State of West Virginia to be part of the State Farm Museum. TSA 2 contains two earthen berms, but it is unclear from historic records whether the storage tanks were removed from TSA 2 and moved to the Sellite Manufacturing Area (OU-11) or if the tanks were never erected at the TSA 2 location.

The Cooling Tower Area is located north of SAA, outside of the MWMA. The parcel is approximately 2.0 acres and is currently owned by Mason County, West Virginia. The Cooling Tower Area was used to provide noncontact cooling water to various process units in the facility. All structures, except for two building foundations, have been removed. One of these foundations holds standing water.

ESI-1: Magazine Area

The Magazine Area was used for storage of TNT during the WVOW operational period from 1942 through 1945. One hundred concrete dome-shaped magazines (also called “igloos”) were constructed for this purpose and still remain at the site; 45 are located within the southern half of the Magazine Area, and the remaining 55 are in the northern half. Each magazine is constructed of reinforced concrete covered with 2 feet of soil and has an interior diameter of 45 feet, a ceiling height of 15 feet, and a TNT storage capacity of 125 tons. No WVOW operations other than TNT storage are known to have been conducted in the Magazine Area.

After closure of the WVOW facility, parts of the Magazine Area were transferred to private ownership. The southwest portion of ESI-1 was transferred to Mason County and comprises a portion of the Point Pleasant Landfill (the “landfill”), which operated from 1974 through 1984 as a municipal landfill. The landfill has been designated by EPA as OU-7, and EPA is the lead agency for addressing OU-7 because many private or public parties could be responsible for any contamination found at OU-7. The landfill is not included in this Notice of Intent for Partial Deletion.

A portion of the southern half of the Magazine Area, referred to as the TNT Remelt Area, was used for reclamation of explosives, most likely TNT and other nitroaromatics, from naval mines and perhaps other ordnance. The TNT Remelt Area, along with other property in the southern half of the Magazine Area (for a total acreage of 281.5 acres), was sold by the War Assets Administration in 1947 to the Liberty Powder Company. An archives search hypothesized that, after the sale, this area was used for TNT reclamation by the Liberty Powder Company in the 1950s and that reclamation activities by American Cyanamid, observed during a 1966 site visit, were a continuation of the Liberty Powder Company operation.

In the northern half of the Magazine Area, there was an unregulated open civilian dumping area from the end of World War II until the early 1970s. Over the years since the end of World War II, numerous owners and lessees have used portions of the Magazine Area for the storage of herbicides, commercial explosives, waste solvents, materials contaminated with polychlorinated biphenyls, and war surplus explosives.

The southern half of the Magazine Area lies within the boundaries of the MWMA and is heavily wooded. The northern half, which is managed as part of the MWMA, is similarly wooded. The State of West Virginia now owns the southern half of the Magazine Area, which is currently part of the MWMA. The northern half of the Magazine Area is currently owned by American Electric Power but is leased to the State of West Virginia and managed as part of the MWMA. Some of the 100 magazines in the Magazine Area have been emptied and the steel doors welded shut. Other magazines in the southern half of the Magazine Area are currently leased to West Virginia Ordnance Works, Inc., a subsidiary of Hi-Performance Ammunition Company, Inc. of Apollo, Pennsylvania, or to private individuals.

ESI-4: Red Water Outfall Sewer

ESI-4 is comprised of the Red Water Outfall Sewer (RWOS) and its vicinity, an approximately 6,200-foot section of the Red Water Sewer Line (RWSL) extending from the Red Water Reservoir (RWR) to the Ohio River. Except for the approximately 350 feet of RWSL nearest the RWR, ESI-4 is outside of the MWMA and is currently used for agricultural and residential purposes.

The RWSL, constructed in 1942, transported red wastewater generated during the final washing of crystallized TNT. Red wastewater flowed by gravity from the TNT Manufacturing Area through wood-stave and vitrified-clay sewer lines to the main wastewater pumping station in the vicinity of Pond 13 (OU-5). From there, the red wastewater was pumped either directly to the Ohio River or to the retention ponds known as the RWR for temporary storage, when the river was too low to permit proper dilution. The discharge pipe to the Ohio River was located south of Eight Mile Island and extended into the channel. The RWOS, constructed of an 18-inch-diameter vitrified-clay pipeline, is the final section of the RWSL that extends from the RWR downgradient (west) to the Ohio River.

ESI-6: Motorpool/Maintenance Area

ESI-6 is located approximately six-tenths of a mile east of State Route 62, within the boundary of the Mason County Fairgrounds and entirely outside of the MWMA. The site is currently used during the annual county fair for displaying exhibits, showing livestock, and as a storage facility. Part of ESI-6 is also on the West Virginia State Farm Museum property. During the operation of WVOW, the site was used for the repair and maintenance of vehicles, locomotives, and equipment. The need for a sampling investigation was based on historical knowledge regarding the presence and use of petroleum fuels, oils, lubricants, solvents, and related materials. ESI-6 has been subdivided into eight individual study areas: Paint, Solvent, and Acetylene Sheds Area; Locomotive House Area; Maintenance Shop Area; Millwright Shop Area; Auto Repair Shop Area; Gasoline Station Area; General Storehouse Area; and Material Shed Area.

The Paint, Solvent, and Acetylene Sheds Area was used for the storage of oil and paint, solvents, and acetylene. Apparently, the Acetylene Shed was torn down in the post-WVOW operations period, and a larger building was constructed in its place. Locomotives maintenance was performed in Building 718 of the Locomotive House Area, which has been torn down. A pit had been located in the northeast portion of the building. This building with two tracks inside had been located adjacent to the railroad tracks that ran through the Motorpool/Maintenance Area during the WVOW operational period. The railroad tracks are no longer present at the site. A geophysical survey undertaken by USACE indicated that there was an UST in the Locomotive House Area, which was found during trenching activities and subsequently removed. Possible contaminants of concern in this area included oils, lubricants, waste oils, petroleum fuels, solvents, PCBs, and lead.

The Maintenance Shop is still in place and used for exhibits during the annual county fair. Varied maintenance was performed in this large building, apparently including additional space for locomotive maintenance. Presumably, the Millwright Shop and the other small buildings in this area were mainly used as headquarters for the maintenance staff and as storage for their tools. The Auto Repair Shop is not currently standing, but the building housing the Garage and Repair Shop still stands. The Auto Repair Shop was located midway between County Road 12 and Pond 2. It had an attached shed on the southeast side, and the shed had a grease pit. This area was used for the maintenance and repair of WVOW vehicles. The Gasoline Station still stands and is located approximately 120 feet south of the Maintenance Shop. Two dispenser pumps had been located on its northeast and southwest sides. An abandoned refueling line was found east of the site. From a 1944 photograph, no aboveground gasoline storage tank was visible. An UST was probably used to store the gasoline dispensed at the facility at the southeast corner of this same building and was removed in the post-operational period of the facility. During geophysical survey activities undertaken by USACE, a magnetic anomaly was observed at this location, but no UST was found during trenching activities.

The General Storehouse is in place and has been expanded since the WVOW period of operations. A review of existing records did not reveal what categories of supplies were stored in this area. Review of existing records does not show how the Material Shed was utilized. An UST was reported to be located between the Material Shed and the General Storehouse during the period of WVOW operations; however, no UST was indicated by the geophysical survey.

ESI-7: Former Sewage Treatment Plant

ESI-7 is located outside of the MWMA, approximately 1,000 feet southwest of the former RWR in the northwest portion of WVOW and to the south of Mill Run Creek. The plant received sanitary sewage from the former TNT Manufacturing Area, the North and South Acid Areas, and the Administration Area. The system discharged treated effluent into a nearby tributary of Mill Run Creek. USACE undertook a sampling investigation because it was possible that contaminants from the manufacturing areas could have been transported to the plant via the daily operation of the sewage system.

Response Actions

At OU-10, a removal was performed in 2000 to remove asbestos-containing debris. From ESI-6, an UST was removed in 2000 and a small area of petroleum-contaminated soil was removed in 2003.

Community Involvement

Public participation activities have been satisfied as required in CERCLA Section 113(k), 42 U.S.C. 9613(k), and Section 117, 42 U.S.C. 9617.

On August 26, 2003, a public meeting was held to present the Proposed Plan for OU-10, which proposed no further action, and decision documents for ESI-1, ESI-4, and ESI-6. The public did not comment on the decision documents. A public comment period for the Proposed Plan was open from August 18 through September 16. The plan was made available at the meeting and at the Mason County Library. Only one minor comment was received, and it was answered at the public meeting and in the responsiveness summary of the OU-10 ROD.

On November 8, 2000, a public meeting was held to present a Decision Document for ESI-7. No public comments were received regarding the decision.

Current Status

Removals at OU-10 and ESI-6 have been successfully completed. No further response action is planned or scheduled for OU-10, ESI-1, ESI-4, ESI-6, or ESI-7. Pursuant to the NCP, a five-year review will not need to be performed at any of these five areas. While EPA does not believe that any future response actions will be needed, if future conditions warrant such action, the areas proposed for deletion in this Notice remain eligible for future response actions. Furthermore, this partial deletion does not alter the status of any other OUs or ESIs at the WVOW site that are not proposed for deletion and remain on the NPL. EPA, together with USACE and with concurrence from the State of West Virginia, has determined that all appropriate CERCLA response actions have been completed at OU-10, ESI-1, ESI-4, ESI-6 and ESI-7 and that protection of human health and the environment has been achieved in these areas. Therefore, EPA makes this proposal to delete OU-10, ESI-1, ESI-4, ESI-6, and ESI-7 of the WVOW site from the NPL.

Dated: February 11, 2004.
Thomas Voltaggio,
Acting Regional Administrator, Environmental Protection Agency, Region III.

[FR Doc. 04-4624 Filed 3-2-04; 8:45 am]

BILLING CODE 6560-50-P